ENVIRONMENTAL PROTECTION AGENCY

[EPA-HQ-OPP-2011-0115; FRL-8866-9]

Notice of Withdrawal of Pesticide Petitions for Residues of Pesticide Chemicals in or on Various Commodities

AGENCY: Environmental Protection Agency (EPA).

ACTION: Notice.

SUMMARY: This notice announces the withdrawal of pesticide petitions (0G7716, 8F7489, 9E7635, and 9F7587) proposing the establishment or modification of regulations for residues of pesticide chemicals in or on various commodities. The petitioners withdrew their petitions voluntarily and without prejudice to future filing.

FOR FURTHER INFORMATION CONTACT: A contact person, with telephone number and e-mail address, is listed at the end of each pesticide petition summary. You may also reach each contact person by mail at Biopesticides and Pollution Prevention Division (7511P), Office of Pesticide Programs, Environmental Protection Agency, 1200 Pennsylvania Ave., NW., Washington, DC 20460-0001.

SUPPLEMENTARY INFORMATION:

I. General Information

A. Does this action apply to me?

Although this action only applies to the petitioners listed in Unit II., it is directed to the public in general. Since various individuals or entities may be interested, EPA has not attempted to describe all the specific entities that may be interested in this action. If you have any questions regarding this action, please consult the person listed at the end of the withdrawal summary for the pesticide petition of interest.

B. How can I get copies of this document and other related information?

EPA has established a docket for this action under docket identification (ID) number EPA-HQ-OPP-2011-0115. Publicly available docket materials are available either in the electronic docket at http://www.regulations.gov, or, if only available in hard copy, at the Office of Pesticide Programs Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is EPA taking?

EPA is announcing the withdrawal of pesticide petitions filed under section 408 of the Federal Food, Drug, and Cosmetic Act (FFDCA), 21 U.S.C. 346a, and proposing the establishment or modification of regulations in 40 CFR part 180 for residues of pesticide chemicals in or on various food commodities.

In accordance with 40 CFR 180.7(f), a summary of each of the petitions covered by this notice, prepared by the petitioner, was included in a docket EPA created for each rulemaking. The docket for each of the petitions is available on-line at http://www.regulations.gov.

Withdrawal by Petitioner

1. PP 0G7716 (Aspergillus flavus NRRL 21882). EPA issued a notice in the Federal Register of September 30, 2010 (75 FR 60452) (FRL-8837-2) (EPA-HQ-OPP-2010-0547), which announced the filing of a pesticide petition (PP 0G7716) by Circle One Global, Inc., P.O. Box 18300, Greensboro, NC 27409. This petition proposed that EPA amend 40 CFR 180.1254 by establishing a temporary exemption from the requirement of a tolerance for residues of the fungicide, Aspergillus flavus NRRL 21882, in or on cotton. On October 11, 2010, Circle One Global, Inc., notified EPA that it was withdrawing this petition. Contact: Shanaz Bacchus; telephone number: (703) 308-8097; e-mail address: bacchus.shanaz@epa.gov.

2. PP 8F7489 (2-phenethyl propionate). EPA issued a notice in the Federal Register of April 8, 2009 (74 FR 15976) (FRL-8409-4) (EPA-HQ-OPP-2009-0222), which announced the filing of a pesticide petition (PP 8F7489) by EcoSmart Technologies, Inc., 3600 Mansell Rd., Suite 150, Alpharetta, GA 30022. This petition proposed that EPA amend 40 CFR part 180 by establishing an exemption from the requirement of a tolerance for residues of the biochemical pesticide, 2-phenethyl propionate, in or on all agricultural commodities. On March 9, 2010, EcoSmart Technologies, Inc., notified EPA that it was withdrawing this petition. Contact: Cheryl Greene; telephone number: (703) 308-0352; e-mail address: greene.cheryl@epa.gov.

3. PP 9E7635 (Tobacco mild green mosaic tobamovirus). EPA issued a notice in the Federal Register of March 10, 2010 (75 FR 11171) (FRL-8810-8) (EPA-HQ-OPP-2010-0055), which announced the filing of a pesticide petition (PP 9E7635) by Interregional Research Project Number 4 (IR-4), Rutgers University, 500 College Rd., East, Suite 201W., Princeton, NJ 08540 (on behalf of BioProdex, Inc., 8520 NW 2 Place, Gainesville, FL 32607-1423). This petition proposed that EPA amend 40 CFR part 180 by establishing an exemption from the requirement of a tolerance for residues of the herbicide, Tobacco mild green mosaic tobamovirus, in or on all food commodities. On January 10, 2011, BioProdex, Inc., notified EPA that it was withdrawing this petition. Contact: Jeannine Kausch; telephone number: (703) 347-8920; e-mail address: kausch.jeannine@epa.gov.

4. PP 9F7587 (Paecilomyces fumosoroseus strain FE 9901). EPA issued a notice in the Federal Register of March 10, 2010 (75 FR 11171) (FRL-8810-8) (EPA-HQ-OPP-2010-0092), which announced the filing of a pesticide petition (PP 9F7587) by Technology Sciences Group, Inc., 1150 18th St., NW., Suite 1000, Washington, DC 20036 (on behalf of Natural Industries, Inc., 6223 Theall Rd., Houston, TX 77066). This petition proposed that EPA amend 40 CFR part 180 by establishing an exemption from the requirement of a tolerance for residues of the mycoinsecticide, Paecilomyces fumosoroseus strain FE 9901, in or on vegetable and herb crops grown in greenhouses. On February 17, 2011, Technology Sciences Group, Inc., notified EPA that it was withdrawing this petition. Contact: Kathleen Martin; telephone number: (703) 308-2857; e-mail address: martin.kathleen@epa.gov.

List of Subjects

Environmental protection, Agricultural commodities, Feed additives, Food additives, Pesticides and pests, Reporting and recordkeeping requirements.

Dated: March 25, 2011.
Keith A. Matthews,
Acting Director, Biopesticides and Pollution Prevention Division, Office of Pesticide Programs.

[FR Doc. 2011-8549 Filed 4-12-11; 8:45 am]

BILLING CODE 6560-50-P